DEPARTMENT OF ENERGY

Federal Energy Regulatory Commission

Combined Notice of Filings #1

September 10, 2007.

Take notice that the Commission has received the following Natural Gas Pipeline Rate and Refund Report filings:

Docket Numbers: RP96-312-167.

Applicants: Tennessee Gas Pipeline Company.

Description: Tennessee Gas Pipeline Company submits Early Termination Agreement with Caledonia Power I, LLC to terminate a transportation service agreement pursuant to its Rate Schedule FT-A .

Filed Date: 09/07/2007.

Accession Number: 20070910-0132.

Comment Date: 5 p.m. Eastern Time on Wednesday, September 19, 2007.

Docket Numbers: RP06-595-008.

Applicants: Discovery Gas Transmission LLC.

Description: Discovery Gas Transmission LLC submits Eighth Revised Sheet 22 et al to FERC Gas Tariff, Original Volume 1, to become effective 9/5/07.

Filed Date: 09/05/2007.

Accession Number: 20070906-0039.

Comment Date: 5 p.m. Eastern Time on Monday, September 17, 2007.

Docket Numbers: RP07-555-001.

Applicants: East Tennessee Natural Gas, LLC.

Description: East Tennessee Natural Gas, LLC submits Substitute Second Revised Sheet 326 to FERC Gas Tariff, Third Revised Volume 1, effective 9/1/07.

Filed Date: 09/07/2007.

Accession Number: 20070910-0131.

Comment Date: 5 p.m. Eastern Time on Wednesday, September 19, 2007.

Docket Numbers: RP07-658-001.

Applicants: Williston Basin Interstate Pipeline Co.

Description: Williston Basin Interstate Pipeline Company submits a correction to its 8/31/07 filing of revised tariff sheets.

Filed Date: 09/06/2007.

Accession Number: 20070906-0153.

Comment Date: 5 p.m. Eastern Time on Tuesday, September 18, 2007.

Docket Numbers: RP07-659-001.

Applicants: Williston Basin Interstate Pipeline Co.

Description: Williston Basin Interstate Pipeline Company submits correction to its 8/31/07 filing of revised tariff sheets.

Filed Date: 09/06/2007.

Accession Number: 20070906-0154.

Comment Date: 5 p.m. Eastern Time on Tuesday, September 18, 2007.

Docket Numbers: RP07-686-000.

Applicants: Northwest Pipeline Corporation.

Description: Northwest Pipeline Corp submits Thirty-First Revised Sheet 14 to FERC Gas Tariff, Third Revised Volume 1.

Filed Date: 09/04/2007.

Accession Number: 20070905-0120.

Comment Date: 5 p.m. Eastern Time on Monday, September 17, 2007.

Docket Numbers: RP07-687-000.

Applicants: Transcontinental Gas Pipe Line Corp.

Description: Transcontinental Gas Pipe Line Corp submits Third Revised Sheet 33A et al to FERC Gas Tariff, Third Revised Volume 1, effective 10/8/07.

Filed Date: 09/07/2007.

Accession Number: 20070910-0130.

Comment Date: 5 p.m. Eastern Time on Wednesday, September 19, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Acting Deputy Secretary.

[FR Doc. E7-18202 Filed 9-14-07; 8:45 am]

BILLING CODE 6717-01-P